DEPARTMENT OF HOUSING AND URBAN DEVELOPMENT

[Docket No. FR-7024-C-55]

30-Day Notice of Proposed Information Collection: Quality Control Requirements for Direct Endorsement Lenders; OMB Control No.: 2502-0600: Correction

AGENCY: Office of the Chief Information Officer, HUD.

ACTION: Notice; correction.

SUMMARY: On December 17, 2020, HUD published a 30-day information collection notice for OMB Control No. 2502-0600. This notice is to correct the Average Hours per Response.

ADDRESSES: Interested persons are invited to submit comments regarding this proposal. Written comments and recommendations for the proposed information collection should be sent within 30 days of publication of this notice to www.reginfo.gov/public/do/Start Printed Page 15501PRAMain. Find this particular information collection by selecting “Currently under 30-day Review—Open for Public Comments” or by using the search function.

FOR FURTHER INFORMATION CONTACT: Colette Pollard, Reports Management Officer, QDAM, Department of Housing and Urban Development, 451 7th Street SW, Washington, DC 20410; email Colette Pollard at Colette.Pollard@hud.gov or telephone 202-402-3400. Persons with hearing or speech impairments may access this number through TTY by calling the toll-free Federal Relay Service at (800) 877-8339.

This is not a toll-free number. Copies of available documents submitted to OMB may be obtained from Ms. Pollard.

SUPPLEMENTARY INFORMATION:

Correction

In the Federal Register of December 17, 2020, in FR Doc. 2020-27771, on page 81947, in the third column, correct the Average Hours per Response from 25. to 0.25.

Colette Pollard,
Department reports Management Officer, Office of the Chief Information Officer.

[FR Doc. 2020-28197 Filed 12-21-20; 8:45 am]

BILLING CODE 4210-67-P